DEPARTMENT OF ENERGY

Federal Energy Regulatory Commission

Combined Notice of Filings #1

October 18, 2010.

Take notice that the Commission received the following electric corporate filings:

Docket Numbers: EC11-7-000.

Applicants: Legg Mason, Inc.

Description: Legg Mason, Inc. Request for Reauthorization and Extension of Existing Blanket Authorization To Acquire Securities Under Section 203 of the Federal Power Act and Request for Expedited Action.

Filed Date: 10/15/2010.

Accession Number: 20101015-5165.

Comment Date: 5 p.m. Eastern Time on Friday, November 5, 2010.

Docket Numbers: EC11-8-000.

Applicants: Sagebrush Power Partners, LLC.

Description: Application for Authorization for Disposition of Jurisdicational Facilities and Request for Expedited Action of Sagebrush Power Partners, LLC.

Filed Date: 10/15/2010.

Accession Number: 20101015-5171.

Comment Date: 5 p.m. Eastern Time on Friday, November 5, 2010.

Take notice that the Commission received the following electric rate filings:

Docket Numbers: ER01-2233-007.

Applicants: GWF Energy LLC.

Description: Amendment to Application for Determination of Category 1 Status, including Notice of Change in Status of GWF Energy LLC.

Filed Date: 10/15/2010.

Accession Number: 20101015-5173.

Comment Date: 5 p.m. Eastern Time on Friday, November 5, 2010.

Docket Numbers: ER08-1281-005.

Applicants: New York Independent System Operator Inc.

Description: Supplemental Response to Data Request of New York Independent System Operator, Inc.

Filed Date: 10/14/2010.

Accession Number: 20101014-5122.

Comment Date: 5 p.m. Eastern Time on Thursday, November 4, 2010.

Docket Numbers: ER10-2680-001.

Applicants: Puget Sound Energy, Inc.

Description: Puget Sound Energy, Inc. submits tariff filing per 35: OATT Section 23 Filing 10/15/2010 to be effective 9/24/2010.

Filed Date: 10/15/2010.

Accession Number: 20101015-5076.

Comment Date: 5 p.m. Eastern Time on Friday, November 5, 2010.

Docket Numbers: ER10-2753-001.

Applicants: Domtar Corporation.

Description: Notice of Non-Material Change in Status of Domtar Corporation.

Filed Date: 10/15/2010.

Accession Number: 20101015-5169.

Comment Date: 5 p.m. Eastern Time on Friday, November 5, 2010.

Docket Numbers: ER10-2774-001.

Applicants: Arizona Solar One LLC.

Description: Arizona Solar One LLC submits tariff filing per 35.17(b): Amendment to Market-Based Rate Application to be effective 10/11/2010.

Filed Date: 10/14/2010.

Accession Number: 20101014-5099.

Comment Date: 5 p.m. Eastern Time on Thursday, November 4, 2010.

Docket Numbers: ER11-26-000.

Applicants: Ashtabula Wind III, LLC.

Description: Ashtabula Wind III, LLC Supplement To Request for Authorization To Sell Energy and Capacity at Market-Based Rates.

Filed Date: 10/15/2010.

Accession Number: 20101015-5125.

Comment Date: 5 p.m. Eastern Time on Friday, November 5, 2010.

Docket Numbers: ER11-123-000.

Applicants: GWF Energy LLC.

Description: GWF Energy LLC submits tariff filing per 35.13(a)(2)(iii): GWF FERC Electric Tariff No. 1 to be effective 9/30/2010.

Filed Date: 10/15/2010.

Accession Number: 20101015-5109.

Comment Date: 5 p.m. Eastern Time on Friday, November 5, 2010.

Docket Numbers: ER11-124-000.

Applicants: Northeast Utilities Service Company.

Description: Report/Form of Northeast Utilities Service Company Regarding Notice of Transmission Rate Schedule Cancellations.

Filed Date: 10/15/2010.

Accession Number: 20101015-5126.

Comment Date: 5 p.m. Eastern Time on Friday, November 5, 2010.

Docket Numbers: ER11-125-000.

Applicants: Intercom Energy, Inc.

Description: Intercom Energy, Inc. submits tariff filing per 35: Intercom Energy, Inc. Market-Based Rate Tariff to be effective 10/18/2010.

Filed Date: 10/15/2010.

Accession Number: 20101015-5143.

Comment Date: 5 p.m. Eastern Time on Friday, November 5, 2010.

Docket Numbers: ER11-126-000.

Applicants: Southwest Power Pool, Inc.

Description: Southwest Power Pool, Inc. submits tariff filing per 35.13(a)(2)(iii): Revisions To Eliminate Market Monitor Data Retention Auditing Requirement to be effective 12/14/2010.

Filed Date: 10/15/2010.

Accession Number: 20101015-5144.

Comment Date: 5 p.m. Eastern Time on Friday, November 5, 2010.

Docket Numbers: ER11-127-000.

Applicants: PJM Interconnection, L.L.C.

Description: PJM Interconnection, L.L.C. submits tariff filing per 35.13(a)(2)(iii0: ISA No. 2656—Queue No. U2-068-PJM, VEPCO and DomVA—Lost River to be effective 9/17/2010.

Filed Date: 10/18/2010.

Accession Number: 20101018-5031.

Comment Date: 5 p.m. Eastern Time on Monday, November 8, 2010.

Docket Numbers: ER11-128-000.

Applicants: Grand Ridge Energy IV LLC.

Description: Grand Ridge Energy IV LLC submits tariff filing per 35.12: Filing of Facility Connection Agreement to be effective 12/31/2010.

Filed Date: 10/18/2010.

Accession Number: 20101018-5071.

Comment Date: 5 p.m. Eastern Time on Monday, November 8, 2010.

Docket Numbers: ER11-129-000.

Applicants: Grand Ridge Energy IV LLC.

Description: Grand Ridge Energy IV LLC submits tariff filing per 35.13(a)(2)(iii): Amendment to Assignment, Co-Tenancy, and Shared Facilities Agreement to be effective 12/31/2010.

Filed Date: 10/18/2010.

Accession Number: 20101018-5072.

Comment Date: 5 p.m. Eastern Time on Monday, November 8, 2010.

Docket Numbers: ER11-130-000.

Applicants: Grand Ridge Energy LLC.

Description: Grand Ridge Energy LLC submits tariff filing per 35.13(a)(2)(iii): Amended Assignment, Co-Tenancy, and Shared Facilities Agreement to be effective 12/31/2010.

Filed Date: 10/18/2010.

Accession Number: 20101018-5076.

Comment Date: 5 p.m. Eastern Time on Monday, November 8, 2010.

Docket Numbers: ER11-131-000.

Applicants: Grand Ridge Energy II LLC.

Description: Grand Ridge Energy II LLC submits tariff filing per 35.13(a)(2)(iii): Amended Assignment, Co-Tenancy, and Shared Facilities Agreement to be effective 12/31/2010.

Filed Date: 10/18/2010.

Accession Number: 20101018-5078.

Comment Date: 5 p.m. Eastern Time on Monday, November 8, 2010.

Docket Numbers: ER11-132-000.

Applicants: Grand Ridge Energy III LLC.

Description: Grand Ridge Energy III LLC submits tariff filing per 35.13(a)(2)(iii): Amended Assignment, Co-Tenancy, and Shared Facilities Agreement to be effective 12/31/2010.

Filed Date: 10/18/2010.

Accession Number: 20101018-5080.

Comment Date: 5 p.m. Eastern Time on Monday, November 8, 2010.

Docket Numbers: ER11-133-000.

Applicants: Grand Ridge Energy V LLC.

Description: Grand Ridge Energy V LLC submits tariff filing per 35.13(a)(2)(iii): Amended Assignment, Co-Tenancy, and Shared Facilities Agreement to be effective 12/31/2010.

Filed Date: 10/18/2010.

Accession Number: 20101018-5081.

Comment Date: 5 p.m. Eastern Time on Monday, November 8, 2010.

Docket Numbers: ER11-134-000.

Applicants: Midwest Independent Transmission System Operator, Inc.

Description: Midwest Independent Transmission System Operator, Inc. submits tariff filing per 35.13(a)(2)(iii): 10-18-10 ALLETE, Inc., Att. O and GG to be effective 1/1/2011.

Filed Date: 10/18/2010.

Accession Number: 20101018-5098.

Comment Date: 5 p.m. Eastern Time on Monday, November 8, 2010.

Docket Numbers: ER11-135-000.

Applicants: Arizona Public Service Company.

Description: Arizona Public Service Company submits tariff filing per 35.12: Service Schedule No. 305, E&P Agreement between APS and Ajo 1 to be effective 10/7/2010.

Filed Date: 10/18/2010.

Accession Number: 20101018-5101.

Comment Date: 5 p.m. Eastern Time on Monday, November 8, 2010.

Docket Numbers: ER11-136-000.

Applicants: Michigan Electric Transmission Company,

Description: Michigan Electric Transmission Company, LLC submits tariff filing per 35.12: METC 205 Filing and Petition for Declaratory Order Related to Agency Agreement to be effective 12/17/2010.

Filed Date: 10/18/2010.

Accession Number: 20101018-5143.

Comment Date: 5 p.m. Eastern Time on Monday, November 8, 2010.

Take notice that the Commission received the following electric securities filings:

Docket Numbers: ES11-2-000.

Applicants: Consolidated Edison Company of New York, Inc.

Description: Application Pursuant to Section 204 of Consolidated Edison Company of New York, Inc. for Authority to Issue and Sell Short-Term Debt.

Filed Date: 10/13/2010.

Accession Number: 20101013-5221.

Comment Date: 5 p.m. Eastern Time on Wednesday, November 3, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-26995 Filed 10-25-10; 8:45 am]

BILLING CODE 6717-01-P